DEPARTMENT OF THE TREASURY

Fiscal Service; Financial Management Service

Proposed Collection of Information: Financial Institution Agreement and Application Forms for Designation as a Treasury Tax and Loan Depositary and Resolution

AGENCY: Financial Management Service, Fiscal Service, Treasury.

ACTION: Notice and request for comments.

SUMMARY: The Financial Management Service, as part of its continuing effort to reduce paperwork and respondent burden, invites the general public and other Federal agencies to take this opportunity to comment on a continuing information collection. By this notice, the Financial Management Service solicits comments concerning the forms “Financial Institution Agreement and Application Forms for Designation as a Treasury Tax and Loan Dispositary and Resolution.”

DATES: Written comments should be received on or before November 27, 2001.

ADDRESSES: Direct all written comments to Financial Management Service, 3700 East West Highway, Programs Branch, Room 144, Hyattsville, Maryland 20782.

FOR FURTHER INFORMATION CONTACT: Requests for additional information or copies of the form(s) and instructions should be directed to Karol Forsberg, Electronic Banking Services Division, 401-14th Street, SW, Room 313, Washington, DC 20227, (202) 874-6580.

SUPPLEMENTARY INFORMATION: Pursuant to the Paperwork Reduction Act of 1995, (44 U.S.C. 3506(c)(2)(A)), the Financial Management Service solicits comments on the collection of information described below.

Title: Financial Institution Agreement and Application Forms for Designation as a Treasury Tax and Loan Depositary and Resolution.

OMB Number: 1510-0052.

Form Number: FMS 458 and FMS 459.

Abstract: Financial Institutions are required to complete and submit the information on the Agreement Application and Resolution forms to participate in the Treasury Tax and Loan program.

Current Actions: Extension of a currently approved collection.

Type of Review: Regular.

Affected Public: Business or other for-profit.

Estimated Number of Respondents: 450.

Estimated Time Per Respondent: 30 minutes.

Estimated Total Annual Burden Hours: 255.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information .

Dated: September 20, 2001.
Bettsy H. Lane,
Assistant Commissioner, Federal Finance.

[FR Doc. 01-24266 Filed 9-27-01; 8:45 am]

BILLING CODE 4810-35-M